DEPARTMENT OF ENERGY

Federal Energy Regulatory Commission

[Docket No. EC03-119-000, et al.]

Wisconsin Electric Power Company, et al.; Electric Rate and Corporate Filings

August 7, 2003.

The following filings have been made with the Commission. The filings are listed in ascending order within each docket classification.

1. Wisconsin Energy Corporation, Wisconsin Electric Power Company, W.E. Power LLC, Port Washington Generating Station LLC

[Docket Nos. EC03-119-000 and EL03-218-000]

Take notice that on August 4, 2003, Wisconsin Energy Corporation, Wisconsin Electric Power Company, W.E. Power LLC, and Port Washington Generating Station LLC (Port Washington) filed an Application for Approval of the Disposition of Jurisdictional Facilities Under Section 203 of the Federal Power Act, 16 U.S.C. Section 824b (2000), and a Petition for Declaratory Order relating to the transfer of certain jurisdictional interconnection facilities associated with generating assets being constructed by Port Washington.

Comment Date: August 27, 2003.

2. Duke Energy Fayette, LLC

[Docket No. ER03-794-002]

Take notice that on August 4, 2003, Duke Energy Fayette, LLC (Duke Fayette) tendered for filing with the Federal Energy Regulatory Commission (Commission) its compliance filing in accordance with the Commission's order issued July 18, 2003 in Docket Nos. ER03-794-000 and 001. Duke Fayette states that it has served copies of the filing on the Pennsylvania Public Utility Commission and the persons on the service list in Docket No. ER03-794.

Comment Date: August 25, 2003.

3. Western Systems Power Pool, Inc.

[Docket No. ER03-1149-000]

Take notice that on August 1, 2003, the Western Systems Power Pool, Inc. (WSPP) submitted changes to the WSPP Agreement intended to update or clarify certain provisions of the Agreement. The WSPP seeks an effective date of October 1, 2003, for these changes.

WSPP states that copies of the transmittal letter have been served on all state commissions within the United States. This filing also has been posted on the WSPP homepage (www.wspp.org) thereby providing notice to all WSPP members.

Comment Date: August 22, 2003.

4. Texxon Utilities, Ltd. Co.

[Docket No. ER03-1150-000]

Take notice that on August 1, 2003, Texxon Utilities, Ltd. Co. (Texxon) tendered for filing with the Commission for acceptance of Texxon Rate Schedule FERC No. 1; the granting of certain blanket approvals, including the authority to sell electricity at market based rates; and the waiver of certain Commission regulations.

Texxon states that it intends to engage in wholesale electric power and energy purchases and sales as a marketer. Texxon states that it is not in the business of generating or transmitting electric power.

Comment Date: August 22, 2003.

5. PJM Interconnection L.L.C.

[Docket No. ER03-1152-000]

Take notice that on August 1, 2003, PJM Interconnection, L.L.C. (PJM) submitted for filing an Interconnection Service Agreement (ISA) among PJM, The American Sugar Refining Company, and Baltimore Gas and Electric Company.

PJM requests a waiver of the Commission's 60-day notice requirement to permit a July 2, 2003 effective date for the ISA.

PJM states that copies of this filing were served upon the parties to the agreements and the state regulatory commissions within the PJM region.

Comment Date: August 22, 2003.

6. PJM Interconnection L.L.C.

[Docket No. ER03-1153-000]

Take notice that on August 1, 2003, PJM Interconnection, L.L.C. (PJM) submitted for filing an Interconnection Service Agreement (ISA) among PJM, PSEG Fossil, L.L.C., and Public Service Electric and Gas Company, an interim ISA between PJM and PSEG Power LLC and two notices of cancellation for interim ISAs that have terminated or been superseded.

PJM requests a waiver of the Commission's 60-day notice requirement to permit the effective dates agreed to by the parties. PJM states that copies of this filing were served upon the parties to the agreements and the state regulatory commissions within the PJM region.

Comment Date: August 22, 2003.

7. American Transmission Systems, Incorporated

[Docket No. ER03-1157-000]

Take notice that on August 4, 2003, American Transmission Systems, Incorporated (ATSI) submitted for filing an Agreement for Construction, Operation, and Compensation of Delivery Points (Agreement) between ATSI and the Village of Edgerton, Ohio. ATSI states that it provides network integration transmission service under its Open Access Transmission Tariff to American Municipal Power—Ohio, Inc. on behalf of Edgerton and other municipal electric systems. ATSI states that the purpose of the Agreement is to add a 69 kV delivery point for Edgerton. ATSI is requesting an effective date of August 1, 2003 for the Service Agreement.

ATSI states that copies of this filing were served on the representatives of the Village of Edgerton, American Municipal Power—Ohio, Inc., and the Public Utilities Commission of Ohio.

Comment Date: August 25, 2003.

8. American Electric Power Service Corporation

[Docket No. ER03-1158-000]

Take notice that on August 4, 2003, the American Electric Power Service Corporation (AEPSC) tendered for filing pursuant to Section 35.15 of the Federal Energy Regulatory Commission's regulations, 18 CFR Section 35.15, a Notice of Termination of an Amended and Restated Interconnection and Operation Agreement between Columbus Southern Power Company and Duke Energy Franklin, L.L.C. designated as Second Revised Service Agreement No. 270 under American Electric Power Operating Companies' Open Access Transmission Tariff. AEP requests an effective date of July 14, 2003.

AEPSC states that a copy of the filing was served upon Duke Energy Franklin, L.L.C. and the Public Utilities Commission of Ohio.

Comment Date: August 25, 2003.

9. Hershey Chocolate & Confectionary Corporation

[Docket No. ER03-1159-000]

Take notice that on August 4, 2003, Hershey Chocolate & Confectionary Corporation (Hershey) filed with the Federal Energy Regulatory Commission (Commission) an application for authority to sell electricity at market-based rates, a market-based rate tariff, and a request for certain regulatory waivers and blanket approvals, including blanket approval to issue securities under section 204 of the Federal Power Act. Hershey requests an effective date of August 12, 2003 for its market-based rate authority.

Comment Date: August 25, 2003.

10. American Electric Power Service Corporation

[Docket No. ER03-1160-000]

Take notice that on August 4, 2003, American Electric Power Service Corporation (AEPSC) tendered for filing with the Federal Energy Regulatory Commission (Commission) a Notice of Termination of an Amended Interconnection and Operation Agreement between Appalachian Power Company and Mirant Danville, L.L.C. designated as Second Revised Service Agreement No. 427 under American Electric Power Operating Companies' Open Access Transmission Tariff.

AEPSC requests an effective date of July 17, 2003. AEPSC states that a copy of the filing was served upon Mirant Danville, L.L.C. and the Virginia State Corporation Commission.

Comment Date: August 25, 2003.

11. New England Power Pool

[Docket No. ER03-1161-000]

Take notice that on August 4, 2003, the New England Power Pool (NEPOOL) Participants Committee filed to terminate the membership of PG&E Energy Trading “ Power, LP (PGET). The Participants Committee requests an October 1, 2003 effective date for the termination of the Participant status of PGET.

The Participants Committee states that copies of these materials were sent to the New England state governors and regulatory commissions and the Participants in NEPOOL.

Comment Date: August 25, 2003.

12. International Energy Consultants, Inc.

[Docket No. ER03-1163-000]

Take notice that on August 4, 2003, International Energy Consultants, Inc. filed a request for termination of their market-based rate authority pursuant to the Commission's Rules, 18 CFR 35.15.

Comment Date: August 25, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. 03-21050 Filed 8-15-03; 8:45 am]

BILLING CODE 6717-01-P